DEPARTMENT OF HEALTH AND HUMAN SERVICES

Centers for Disease Control and Prevention

Respirator Certification Fees; Public Meeting

AGENCY: The National Institute for Occupational Safety and Health (NIOSH) of the Centers for Disease Control and Prevention (CDC), Department of Health and Human Services (HHS).

ACTION: Notice of public meeting.

SUMMARY: The National Institute for Occupational Safety and Health (NIOSH) of the Centers for Disease Control and Prevention (CDC) announces a public meeting. The purpose of this meeting is to allow stakeholders to present information the impact of an increase on respirator fees on individual respirator manufacturers, the respirator market, or on those industries that rely on NIOSH approved respiratory equipment.

DATES: April 30, 2013, 10 a.m. to 4 p.m. EDT, or after the last public commenter has spoken, whichever occurs first.

ADDRESSES: U.S. Office of Surface Mining, Three Parkway Center (Greentree), Pittsburgh, PA 15220. This meeting will also be available by remote access. Registration information is available on the NIOSH Web site at http://www.cdc.gov/niosh.

FOR FURTHER INFORMATION CONTACT: David Book, NIOSH National Personal Protective Technology Laboratory (NPPTL), 626 Cochrans Mill Road, Pittsburgh, PA 15236 (412) 386-6691 or (412) 386-5200 (these are not toll free numbers).

SUPPLEMENTARY INFORMATION:

Public Meeting

NIOSH will hold a public meeting to allow commenters to present information on an increase in respirator certification and approval fees on individual respirator manufacturers, the respirator market, or on those industries that rely on NIOSH approved respiratory equipment.

Requests to make presentations at the public meeting should be mailed to the NIOSH Docket Office, Robert A. Taft Laboratories, MS-C34, 4676 Columbia Parkway, Cincinnati, OH 45226. Requests may also be submitted by telephone (513) 533-8611, facsimile (513) 533-8285, or emailed to nioshdocket@cdc.gov with the words “respirator fees presentation” in the subject line. All requests to present should contain the name, address, telephone number and relevant business affiliations of the presenter, and the approximate time requested for the presentation. Oral presentations will be limited to 15 minutes. After reviewing the requests for presentations, NIOSH will notify the presenter that his/her presentation is scheduled. If a participant is not in attendance when his/her presentation is scheduled to begin, the remaining participants will be heard in order. After the last scheduled speaker is heard, participants who missed their assigned times may be allowed to speak, limited by time available.

Attendees who wish to speak but did not submit a request for the opportunity to make a presentation may be given this opportunity after the scheduled speakers are heard, at the discretion of the presiding officer and limited by time available. This meeting will also be using audio/LiveMeeting Conferencing, remote access capabilities where interested parties may listen in and view the presentations over the Internet simultaneously. Parties remotely accessing the meeting will have the opportunity to comment during the open comment period.

Registration is required for both in-person and LiveMeeting participation. Because this meeting is being held at a Federal site, pre-registration is required on or before April 26, 2013 and a government-issued photo ID (driver's license or passport) will be required to obtain entrance to the facility. Non‐US citizens need to register by March 29, to allow sufficient time for mandatory facility security clearance procedures to be completed.

An email confirming registration will be sent from NIOSH for both in-person participation and audio conferencing participation. Details required to participate via the conferencing will be provided by NIOSH in a separate email. This option will be available to participants on a first come, first served basis and is limited to the first 100 participants.

Registration information is available on the NIOSH Web site at http://www.cdc.gov/niosh.

Dated: March 20, 2013.
John Howard,
Director, National Institute for Occupational Safety and Health, Centers for Disease Control and Prevention.

[FR Doc. 2013-06850 Filed 3-26-13; 8:45 am]

BILLING CODE 4163-19-P